DEPARTMENT OF AGRICULTURE

Grain Inspection, Packers and Stockyards Administration

[01-02-A]

Opportunity for Designation in the Columbus (OH), Farwell (NM), and Northeast Indiana (IN) Areas, and Request for Comments on the Official Agencies Serving These Areas

AGENCY: Grain Inspection, Packers and Stockyards Administration (GIPSA) USDA.

ACTION: Notice.

SUMMARY: The designations of the official agencies listed below will end in January 2002. GIPSA is asking persons interested in providing official services in the areas served by these agencies to submit an application for designation. GIPSA is also asking for comments on the services provided by these currently designated agencies:

Columbus Grain Inspection, Inc. (Columbus);

Farwell Grain Inspection, Inc. (Farwell); and

Northeast Indiana Grain Inspection, Inc. (Northeast Indiana).

DATES: Applications and comments must be postmarked or sent by telecopier (FAX) on or before June 30, 2001.

ADDRESSES: Submit applications and comments to USDA, GIPSA, Janet M. Hart, Chief, Review Branch, Compliance Division, STOP 3604, Room 1647-S, 1400 Independence Avenue, SW., Washington, DC 20250-3604; FAX 202-690-2755. If an application is submitted by FAX, GIPSA reserves the right to request an original application. All applications and comments will be made available for public inspection at Room 1647-S, 1400 Independence Avenue, SW., during regular business hours.

FOR FURTHER INFORMATION CONTACT: Janet M. Hart at 202-720-8525, e-mail janhart@gipsadc.usda.gov.

SUPPLEMENTARY INFORMATION: This Action has been reviewed and determined not to be a rule or regulation as defined in Executive Order 12866 and Departmental Regulation 1512-1; therefore, the Executive Order and Departmental Regulation do not apply to this Action.

Section 7(f)(1) of the United States Grain Standards Act, as amended (Act), authorizes GIPSA's Administrator to designate a qualified applicant to provide official services in a specified area after determining that the applicant is better able than any other applicant to provide such official services.

Section 7(g)(1) of the Act provides that designations of official agencies shall end not later than triennially and may be renewed according to the criteria and procedures prescribed in Section 7(f) of the Act.

1. Current Designations Being Announced for Renewal

Official agency | Main office | Designation start | Designation end
Columbus | Circleville, OH | 02/01/1999 | 01/31/2002
Farwell | Farwell, TX | 02/01/1999 | 01/31/2002
Northeast Indiana | Hoagland, IN | 02/01/1999 | 01/31/2002

a. Pursuant to Section 7(f)(2) of the Act, the following geographic area, in the States of Michigan and Ohio, is assigned to Columbus.

In Ohio:

Bounded on the North by the northern Lucas County line east to Lake Erie; the Lake Erie shoreline east to the Ohio-Pennsylvania State line;

Bounded on the East by the Ohio-Pennsylvania State line south to the Ohio River;

Bounded on the South by the Ohio River south-southwest to the western Scioto County line; and

Bounded on the West by the western Scioto County line north to State Route 73; State Route 73 northwest to U.S. Route 22; U.S. Route 22 west to U.S. Route 68; U.S. Route 68 north to Clark County; the northern Clark County line west to State Route 560; State Route 560 north to State Route 296; State Route 296 west to Interstate 75; Interstate 75 north to State Route 47; State Route 47 northeast to U.S. Route 68 (including all of Sidney, Ohio); U.S. Route 68 north to U.S. Route 30; U.S. Route 30 east to State Route 19; State Route 19 north to Seneca County; the southern Seneca County line west to State Route 53; State Route 53 north to Sandusky County; the southern Sandusky County line west to State Route 590; State Route 590 north to Ottawa County; the southern and western Ottawa and Lucas County lines.

In Michigan: Those sections of Jackson, Lenawee, and Monroe Counties which are east of State Route 127 and south of State Route 50.

Columbus' assigned geographic area does not include the export port locations inside Columbus' area which are serviced by GIPSA.

b. Pursuant to Section 7(f)(2) of the Act, the following geographic area, in the States of Arizona, New Mexico and Texas, is assigned to Farwell.

Maricopa, Pinal, and Yuma Counties, Arizona.

Bernalillo, Chaves, Curry, DeBaca, Eddy, Guadalupe, Lea, Quay, Roosevelt, San Miguel, Santa Fe, Torrance, and Union Counties, New Mexico.

Bailey, Cochran, Deaf Smith (west of State Route 214), Hockley, Lamb (south of a line bounded by U.S. Route 70, FM 303, U.S. Route 84, and FM 37), and Parmer Counties, Texas.

c. Pursuant to section 7(f)(2) of the Act, the following geographic area, in the State of Indiana, is assigned to Northeat Indiana.

Bounded on the North by the northern Lagrange and Steuben County lines;

Bounded on the East by the eastern Steuben, De Kalb, Allen, and Adams County lines;

Bounded on the South by the southern Adams and Wells County lines; and

Bounded on the West by the western Wells County line; the southern Huntington and Wabash County lines; the western Wabash County line north to State Route 114; State Route 114 northwest to State Route 19; State Route 19 north to Kosciusko County; the western and northern Kosciusko County lines; the western Noble and Lagrange County lines.

The following grain elevator, located outside of the above contiguous geographic area, is part of this geographic area assignment: E.M.P. Coop, Payne, Paulding County, Ohio (located inside Michigan Grain Inspection Services, Inc.'s, area).

2. Opportunity for Designation

Interested persons, including Columbus, Farwell, and Northeast Indiana, are hereby given the opportunity to apply for designation to provide official services in the geographic areas specified above under the provisions of section 7(f) of the Act and section 800.196(d) of the regulations issued thereunder. Designation in the specified geographic areas is for the period beginning February 1, 2002, and ending December 31, 2004. Persons wishing to apply for designation should contact the Compliance Division at the address listed above for forms and information.

3. Request for Comments

GIPSA also is publishing this notice to provide interested persons the opportunity to present comments on the Columbus, Farwelll, and Northeast Indiana official agencies. Commenters are encouraged to submit pertinent data concerning these official agencies including information on the timeliness, cost, quality, and scope of services provided. All comments must be submitted to the Compliance Division at the above address.

Applications, comments, and other available information will be considered in determining which applicant will be designated.

Authority: Pub. L. 94-582, 90 Stat. 2867, as amended (7 U.S.C. 71 et seq.).

Dated: May 4, 2001.
David R. Shipman,
Acting Administrator, Grain Inspection, Packers and Stockyards Administration.

[FR Doc. 01-13584 Filed 5-31-01; 8:45 am]

BILLING CODE 3410-EN-P